OFFICE OF MANAGEMENT AND BUDGET

Request for Comments on Identity, Credential, and Access Management (ICAM)

AGENCY: Office of Management and Budget.

ACTION: Notice of public comment period.

SUMMARY: The Office of Management and Budget (OMB) is seeking public comment on a draft memorandum titled “Strengthening the Cybersecurity of Federal Agencies through Improved Identity, Credential, and Access Management.”

DATES: The public comment period on the draft memorandum begins on April 6, 2018 in the Federal Register and will last for 30 days. The public comment period will end on May 6, 2018.

ADDRESSES: Interested parties should provide comments at the following link: https://policy.cio.gov/identity-draft. The Office of Management and Budget is located at 725 17th Street NW, Washington, DC 20503.

FOR FURTHER INFORMATION CONTACT: Jordan Burris at ofcio@omb.eop.gov.

SUPPLEMENTARY INFORMATION: The Office of Management and Budget (OMB) is proposing a new policy for identity, credential, and access management (ICAM) across the Federal enterprise. This memorandum would establish new government-wide responsibilities for the Department of Commerce (DOC), the General Services Administration (GSA), the Department of Homeland Security (DHS), and the Office of Personnel Management (OPM) and provide agencies with implementation guidance on the requirements defined in National Institute of Standards and Technology (NIST) Special Publication 800-63-3. It would also reduce the policy compliance burden to agencies by rescinding and replacing five older memoranda, which collectively outline direction to agencies related to E-Authentication and acceptance of external credentials, among other matters.

Margaret H. Graves,
Deputy U.S. Federal Chief Information Officer.

[FR Doc. 2018-07045 Filed 4-5-18; 8:45 am]

BILLING CODE 3110-05-P